NUCLEAR REGULATORY COMMISSION

[NRC-2010-0229]

Draft Regulatory Guide, DG-1216,”Plant-Specific Applicability of Transition Break Size Specified in 10 CFR 50.46a.” Issuance, Availability; Extension of Comment Period

AGENCY: Nuclear Regulatory Commission.

ACTION: Extension of comment period.

FOR FURTHER INFORMATION CONTACT: Robert Tregoning, U.S. Nuclear Regulatory Commission, Washington, DC 20555-0001, telephone 301-251-7662, or e-mail Robert.Tregoning@nrc.gov.

SUMMARY: The U.S. Nuclear Regulatory Commission (NRC) is extending the public comment period for DG-1216 from August 25, 2010 to November 8, 2010.

DATES: The comment period closes on November 8, 2010.

ADDRESSES: You may submit comments by any one of the following methods. Please include Docket ID NRC-2010-0229 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0229. Address questions about NRC dockets to Carol Gallagher 301-492-3668; e-mail Carol.Gallagher@nrc.gov.

Mail comments to: Cindy K. Bladey, Chief, Rules, Announcements, and Directives Branch (RADB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area C1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Draft Regulatory Guide, DG-1216, “Plant-Specific Applicability of Transition Break Size Specified in 10 CFR 50.46a,” is available electronically under ADAMS Accession Number ML100430356.

SUPPLEMENTARY INFORMATION: On June 28, 2010 (75 FR 36700), the NRC published a notice of issuance and availability of Draft Regulatory Guide DG-1216, “Plant-Specific Applicability of Transition Break Size Specified in 10 CFR 50.46a.” By letter dated July 13, 2010, the Nuclear Energy Institute (ADAMS Accession No. ML102070019) requested an extension of the stated comment period for the purpose of gathering input from personnel with varied technical expertise. It is the desire of the NRC to receive comments of a high quality from all stakeholders. Several factors have been considered in granting an extension. 10 CFR 50.46a will be an optional regulation for licensees, the requested comment period extension is within the rulemaking period, and the rule encompasses complex technical bases. Therefore the comment submittal period is extended from the original date of August 25, 2010 to November 8, 2010.

Dated at Rockville, Maryland, this 26th day of July, 2010.
For the Nuclear Regulatory Commission.
Harriet Katagiannis,
Acting Chief, Regulatory Guide Development Branch, Division of Engineering, Office of Nuclear Regulatory Research.

[FR Doc. 2010-19016 Filed 8-2-10; 8:45 am]

BILLING CODE 7590-01-P